ENVIRONMENTAL PROTECTION AGENCY

40 CFR Part 52

[EPA-R07-OAR-2018-0700; FRL-9986-80-Region 7]

Air Plan Approval; Missouri; Emissions Inventory for the Missouri Jackson County and Jefferson County 2010 Sulfur Dioxide National Ambient Air Quality Standard Nonattainment Areas

AGENCY: Environmental Protection Agency (EPA).

ACTION: Proposed rule.

SUMMARY: The Environmental Protection Agency (EPA) is proposing to approve two submissions from the Missouri Department of Natural Resources (MoDNR) revising the State Implementation Plan (SIP) for the State of Missouri. The SIP revision submissions address the Clean Air Act (CAA) section 172 requirement to submit a base year emissions inventory for Missouri's partial Jackson County and partial Jefferson County nonattainment areas of the 2010 1-hour Sulfur Dioxide (SO2) National Ambient Air Quality Standard (NAAQS).

DATES: Comments must be received on or before December 24, 2018.

ADDRESSES: You may send comments, identified by Docket ID No. EPA-R07-OAR-2018-0700 to https://www.regulations.gov. Follow the online instructions for submitting comments.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Tracey Casburn, Environmental Protection Agency, Air Planning and Development Branch, 11201 Renner Boulevard, Lenexa, Kansas 66219, by telephone at (913) 551-7016, or by email at casburn.tracey@epa.gov.

SUPPLEMENTARY INFORMATION: Throughout this document “we,” “us,” and “our” refer to the EPA.

Table of Contents

I. Written Comments

II. Background Information

III. Have the requirements for approval of a SIP revision been met?

IV. What is the EPA's analysis of the SIP revision submissions?

V. What action is the EPA taking?

VI. Statutory and Executive Order reviews

I. Written Comments

Submit your comments, identified by Docket ID No. EPA-R07-OAR-2018-0700, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

II. Background Information

On June 22, 2010, the EPA promulgated a new 1-hour primary SO2 NAAQS of 75 parts per billion (ppb). See 75 FR 35520, codified at 40 CFR 50.17(a)-(b). On August 5, 2013, the EPA finalized designations for the 2010 SO2 NAAQS, including the partial Jackson County and partial Jefferson County nonattainment areas in the State of Missouri. See 78 FR 47191, codified at 40 CFR part 81, subpart C. These area designations were effective October 4, 2013. Section 191 of the CAA directs states to submit SIP revisions for areas designated as nonattainment for the SO2 NAAQS to the EPA within 18 months of the effective date of the designation (i.e., no later than April 4, 2015). Submittal of the state's nonattainment plan SIP revision submissions is discussed in more detail in the “Have the requirements for approval of a SIP revision been met?” section of this document.

CAA section 172(c)(3) requires states to develop and submit a comprehensive, accurate, current emissions inventory for all areas designated as nonattainment. An emissions inventory is an estimation of actual emissions of air pollutants in an area that provides data for a variety of air quality planning tasks including establishing baseline emission levels, calculating Federally required emission reduction targets, emission inputs into air quality simulation models, and for tracking emissions over time. The EPA's April 2014 guidance document “Guidance for 1-Hour SO2 Nonattainment Area SIP Submissions” (April 2014 guidance) recommends that the state develop an accurate emissions inventory of current emissions for all sources of SO2 (i.e., point, area and mobile sources) within the nonattainment area as well as any sources located outside the nonattainment area which may affect attainment in the area.¹

¹ See page 8 of the April 2014 guidance.

The EPA has reviewed the state's emission inventory SIP revision submissions and is proposing to approve the SIP revision submissions pursuant to sections 110, 191(a), and 172(c)(3) of the CAA.

III. Have the requirements for approval of a SIP revision been met?

The baseline emissions inventory for the Jackson County SO2 nonattainment area was included in MoDNR's October 2015 SIP revision submission “Nonattainment Area Plan for the 2010 1-Hour Sulfur Dioxide National Ambient Air Quality Standard—Jackson County Sulfur Dioxide Nonattainment Area” which met the public notice requirements for a SIP revision submission in accordance with 40 CFR 51.102.² The MoDNR provided public notice of the SIP revision submission from March 22, 2015 to July 2, 2015, and held a public hearing on June 25, 2015. The MoDNR received oral comments from three sources during the hearing and written comments from three sources prior to the close of the public comment period.³

² The MoDNR withdrew the “Nonattainment Area Plan for the 2010 1-Hour Sulfur Dioxide National Ambient Air Quality Standard—Jackson County Sulfur Dioxide Nonattainment Area” SIP submission, except the EI, from the EPA's consideration on June 11, 2018.

³ The Sierra Club submitted letters from 78 citizens.

The baseline emissions inventory for the Jefferson County SO2 nonattainment area was included in MoDNR's June 2015 SIP revision submission “Nonattainment Area Plan for the 2010 1-Hour Sulfur Dioxide National Ambient Air Quality Standard—Jefferson County Sulfur Dioxide Nonattainment Area” which met the public notice requirements for a SIP revision submission in accordance with 40 CFR 51.102.⁴ The MoDNR provided public notice of the SIP revision submission from March 26, 2015 to May 7, 2015, and held a public hearing on April 30, 2015. The MoDNR received oral comments from seven sources during the hearing and written comments from three sources prior to the close of the public comment period.⁵

⁴ The MoDNR withdrew the National Ambient Air Quality Standard—Jefferson County Sulfur Dioxide Nonattainment Area” SIP submission, except the EI, from the EPA's consideration on March 30, 2018.

⁵ The Sierra Club submitted postcards and signatures from 240 citizens.

None of the comments the state received were directly related to the baseline year emissions inventories, therefore no changes were made to the baseline emmisions inventories prior to submitting the SIP revision submissions to the EPA. The emissions inventory SIP revision submissions meet the procedural requirements for SIP submittals in the CAA, including section 110 and implementing regulations.

IV. What is the EPA's analysis of the SIP revision submissions?

The baseline emissions inventory in both SIP revision submissions was taken from the 2011 National Emissions Inventory (NEI) database. The MoDNR developed a comprehensive statewide emissions inventory for 2011 as required by the EPA's Air Emissions Reporting Requirements (AERR) rule. See 73 FR 76539 codified at 40 CFR 51.1-51.50. The inventory was submitted to the NEI through the EPA's Emission Inventory System (EIS). The 2011 baseline emissions inventory in both SIP revision submissions included point, area (or nonpoint), and mobile emissions sources of SO2 in accordance with the EPA's April 2014 Guidance. Both 2011 baseline emissions SIP revision submissions were county wide (i.e., not limited to the partial county nonattainment boundary) and SO2 emissions data was reported in tons per year (tpy).⁶

⁶ The MoDNR developed separate model input inventories based on 2012 emissions that included sources inside of and outside of the nonattainment areas. Nonpoint and mobile sources emissions were considered part of the background in the modeling scenarios.

Table 1—County Wide 2011 Baseline SO2 Emissions
[Tpy]
Emission category | Jackson County | Jefferson County
Point Source | 27,513 | 43,713
Area (Nonpoint) Source | 92 | 51
Mobile Source | 92 | 27

V. What action is the EPA taking?

The EPA is proposing to approve the two SIP revision submissions from the MoDNR addressing the CAA section 172(c)(3) requirement to submit a base year emissions inventory for Missouri's partial Jackson County and partial Jefferson County nonattainment areas of the 2010 1-hour SO2 NAAQS. The EPA proposes that these emission inventory SIP revision submissions were submitted in accordance with sections 110, 191(a), and 172(c)(3) of the CAA. Final rulemaking will occur after consideration of any comments.

VI. Statutory and Executive Order Reviews

Under the Clean Air Act (CAA), the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Emissions Inventory, Incorporation by reference, Sulfur oxides.

Dated: November 16, 2018.
James B. Gulliford,
Regional Administrator, Region 7.

For the reasons stated in the preamble, the EPA proposes to amend part 52 as set forth below:

PART 52—APPROVAL AND PROMULGATION OF IMPLEMENTATION PLANS

1. The authority citation for part 52 continues to read as follows:

Authority: 42 U.S.C. 7401 et. seq.

Subpart—AA Missouri

2. Amend the table in § 52.1320, paragraph (e) by adding new entries “(76)” and “(77)” in numerical order to read as follows:

§ 52.1320 Identification of Plan.

* * * * *

(e) * * *

EPA-Approved Missouri Nonregulatory SIP Provisions
Name of nonregulatory SIP provision | Applicable geographic or nonattainment area | State submittal date | EPA approval date | Explanation
* * * * * * *
(76) Jackson County 1-Hour SO2 NAA Baseline Emissions Inventory | Jackson County | 10/15/2015 | [Date of publication of the final rule in the Federal Register], [Federal Register citation of the final rule] | [EPA-R07-OAR-2018-0700; FRL-9986-80-Region 7].
(77) Jefferson County 1-Hour SO2 NAA Baseline Emissions Inventory | Jefferson County | 6/1/2015 | [Date of publication of the final rule in the Federal Register], [Federal Register citation of the final rule] | [EPA-R07-OAR-2018-0700; FRL-9986-80-Region 7].

[FR Doc. 2018-25553 Filed 11-21-18; 8:45 am]

BILLING CODE 6560-50-P